DEPARTMENT OF TRANSPORTATION

Federal Highway Administration

Notice of Final Federal Agency Actions on Proposed Transportation Project in Florida

AGENCY: Federal Highway Administration (FHWA), USDOT.

ACTION: Notice of Limitation of Claims for Judicial Review of Actions by the FHWA, the U.S. Army Corps of Engineers (USACE) and Other Federal Agencies.

SUMMARY: The FHWA, on behalf of the Florida Department of Transportation (FDOT), is issuing this notice to announce actions taken by FHWA and other Federal Agencies, since May 8, 2015, that are final within the meaning of Federal law. These actions relate to a proposed highway project, the State Road (SR) 7 extension from SR 704/Okeechobee Boulevard to County Road (CR) 809/North Lake Boulevard, Federal Project No: 4752-030-P, in Palm Beach County, State of Florida. These actions grant license, permits, and approvals for the project.

DATES: By this notice, the FHWA, on behalf of the FDOT, is advising the public of final agency actions subject to 23 U.S.C. 139(l)(1). A claim seeking judicial review of the Federal agency actions on the highway project will be barred unless the claim is filed on or before February 5, 2018. If the Federal law that authorizes judicial review of a claim provides a time period of less than 150 days for filing such claim, then that shorter time period still applies.

FOR FURTHER INFORMATION CONTACT: For FDOT: Ms. Ann Broadwell, Environmental Administrator, Florida Department of Transportation, District 4, 3400 Commercial Blvd., Ft. Lauderdale, Florida 33309; telephone: (954) 777-4325; email: Ann.Broadwell@dot.state.fl.us. For FHWA: Ms. Cathy Kendall, AICP, Senior Environmental Specialist, FHWA Florida Division, 3500 Financial Plaza, Suite 400, Tallahassee, Florida 32312; telephone: (850) 553-2225; email: cathy.kendall@dot.gov. For USACE: Mr. Randy Turner, SAJ Regulatory Division, U.S. Army Corps of Engineers, 701 San Marco Blvd., Jacksonville, FL 32207; telephone: 904-232-1670; email: Randy.L.Turner@usace.army.mil.

SUPPLEMENTARY INFORMATION: Effective December 14, 2016, the Federal Highway Administration (FHWA) assigned, and the Florida Department of Transportation (FDOT) assumed, environmental responsibilities for this project pursuant to 23 U.S.C. 327. Notice is hereby given that FHWA, USACE and other Federal Agencies have taken final agency action subject to 23 U.S.C. 139(l)(1) by issuing licenses, permits, and approvals for the project listed below. The actions by the Federal agencies on a project, and the laws under which such actions were taken, are described in the Environmental Assessment (EA) with Finding of No Significant Impact (FONSI) issued on February 19, 2015, in connection with the project. The EA/FONSI is available by contacting the FDOT or by using the link provided below.

This notice applies to all Federal agency decisions by issuing licenses, permits, and approvals as of the issuance date of this notice and all laws under which such actions were taken, including but not limited to:

1. General: National Environmental Policy Act (NEPA) [42 U.S.C. 4321-4351; Federal-Aid Highway Act (FAHA) [23 U.S.C. 109 and 23 U.S.C. 128].

2. Air: Clean Air Act (CAA), 42 U.S.C. 7401-7671(q).

3. Land: Section 4(f) of the Department of Transportation Act of 1966 (4f) [49 U.S.C. 303 and 23 U.S.C. 138].

4. Wildlife: Endangered Species Act (ESA) [16 U.S.C. 1531-1544 and 1536]; Marine Mammal Protection Act [16 U.S.C. 1361], Fish and Wildlife Coordination Act [16 U.S.C. 661-667(d); Migratory Bird Treaty Act (MBTA) [16 U.S.C. 703-712]; Magnuson-Stevenson Fishery Conservation and Management Act of 1976, as amended [16 U.S.C. 1801 et seq.].

5. Historic and Cultural Resources: Section 106 of the National Historic Preservation Act of 1966, as amended (106) [16 U.S.C. 470(f) et seq.]; Archaeological Resources Protection Act of 1977 (ARPA) [16 U.S.C. 470(aa)-470(II)]; Archaeological and Historic Preservation Act (AHPA) [16 U.S.C. 469-469(c)]; Native American Grave Protection and Repatriation Act (NAGPRA) [25 U.S.C. 3001-3013].

6. Social and Economic: Civil Rights Act of 1964 (Civil Rights) [42 U.S.C. 20009(d)-2000(d)(1)]; American Indian Religious Freedom Act [42 U.S.C. 1996]; Farmland Protection Policy Act (FPPA) [7 U.S.C. 4201-4209].

7. Wetlands and Water Resources: Clean Water Act (Section 404, Section 401, Section 319) [33 U.S.C. 1251-1377]; Coastal Barriers Resources Act (CBRA) [16 U.S.C. 3501 et seq.]; Coastal Zone Management Act (CZMA) [16 U.S.C. 1451-1465]; Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; Wetlands Mitigation, [23 U.S.C. 103(b)(6)(M) and 103(b)(11)]; Flood Disaster Protection Act [42 U.S.C. 4001-4128].

8. Executive Orders: E.O. 11990 Protection of Wetlands; E.O. 11988 Floodplain Management; E.O. 12898, Federal Actions to Address Environmental Justice in Minority Populations and Low Income Populations; E.O. 11593 Protection and Enhancement of Cultural Resources; E.O. 13287 Preserve America; E.O. 13175 Consultation and Coordination with Indian Tribal Governments; E.O. 11514 Protection and Enhancement of Environmental Quality; E.O. 13112 Invasive Species.

The project subject to this notice is:

Project Location: Palm Beach County, Florida—SR-7 extension from SR 704/Okeechobee Boulevard to CR-809/North Lake Boulevard, Federal Project No: 4752-030-P. The highway project consists of two segments. Segment 1 (FDOT Financial Project Number 229664-3-32-01) will extend SR7 from 60th Street North to CR-809/North Lake Boulevard through construction of a new four lane road, including two bridges. Segment 2 (FDOT Financial Project Number 229664-4-32-01) will widen an existing extent of SR 7 from a two-lane roadway to a four lane divided roadway from SR-704/Okeechobee Boulevard to 60th Street North. The Army Corps of Engineers issued Permit #SAJ-2015-01094(SP-RLT) for the project on July 20, 2017. The EA/FONSI is available at: http://www.sr7extension.com/SR7_Documents_and_Publications.html.

(Catalog of Federal Domestic Assistance Program Number 20.205, Highway Planning and Construction. The regulations implementing Executive Order 12372 regarding intergovernmental consultation on Federal programs and activities apply to this program.)

Authority: 23 U.S.C. 139(l)(1).

Issued on: September 5, 2017.
David Hawk,
Acting Division Administrator, Federal Highway Administration, Tallahassee, Florida.

[FR Doc. 2017-19309 Filed 9-12-17; 8:45 am]

BILLING CODE 4910-RY-P